DEPARTMENT OF ENERGY

Federal Energy Regulatory Commission

[Docket No. PR03-8-000]

Humble Gas Pipeline Company; Notice of Petition for Rate Approval

March 5, 2003.

Take notice that on February 28, 2003, Humble Gas Pipeline Company (HGPC) filed a petition for rate approval pursuant to section 284.123(b)(2) or the Commission's regulations. HGPC requests that the Commission approve a maximum rate of $0.0619 per MMBtu for gas transported on the Inlet System and a maximum rate of $0.01443 per MMBtu for gas transported on the Header System; both rates are subject to an additional one-half of one percent (0.5%) retainage for fuel and unaccounted-for gas.

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5803 Filed 3-11-03; 8:45 am]

BILLING CODE 6717-01-P